DEPARTMENT OF THE INTERIOR

National Park Service

[N6521; NPS-WASO-NAGPRA-NPS0041076; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History, (SNOMNH) has completed an inventory of human remains and has determined that there is a cultural affiliation between the human remains and Indian Tribes or Native Hawaiian organizations in this notice.

DATES: Repatriation of the human remains in this notice may occur on or after October 16, 2025.

ADDRESSES: Send written requests for repatriation of the human remains in this notice to Zachary Garrett, NAGPRA Program Coordinator, Sam Noble Oklahoma Museum of Natural History, University of Oklahoma, 2401 Chautauqua Avenue, Norman, OK 73072-7029, email zacgarrett@ou.edu.

SUPPLEMENTARY INFORMATION: This notice is published as part of the National Park Service's administrative responsibilities under NAGPRA. The determinations in this notice are the sole responsibility of SNOMNH, and additional information on the determinations in this notice, including the results of consultation, can be found in its inventory or related records. The National Park Service is not responsible for the determinations in this notice.

Abstract of Information Available

Human remains representing, at least, two individuals have been identified. The human remains consist of human hair included in two dolls.

One doll (NAM 09-06-102) was transferred from the University of Oklahoma Art Museum (now Fred Jones Jr. Museum of Art) to the Stovall Museum of Science and History (now SNOMNH) where it was accessioned in 1982. Records indicate the doll and the hair are Cheyenne or Arapaho, and cultural affiliation was confirmed through tribal consultation with the Cheyenne and Arapaho Tribes, Oklahoma.

One doll (NAM 09-06-257) was part of a collection of Cheyenne and Arapaho objects acquired by Mr. William H. Munger during his residence at Watonga, OK, as a merchant. Mr. Munger moved into Cheyenne and Arapaho country in 1892 and opened a store. Mr. Munger passed away in 1926, and in 1947 the collection was donated to SNOMNH by members of Mr. Munger's family.

In the past, hazardous substances were used to treat the Ethnology Collection at SNOMNH. The Ethnology Collection in part or whole was exposed to Paradichlorobenzene (PBD in textile storage-discontinued around or before 1981), Naphthalene (moth flake packets stored with textiles-discontinued around 1985), and Vapona (no-pest-strips (active ingredient: Dichlorvos DDVP) and pyrethrins, placed in cases with objects, discontinued around 1986). None of these products were ever in direct contact with objects. Any potential treatments of these objects by donors are unknown.

The building where the Ethnology collection was previously stored was subject to fumigation multiple times per year from 1983-1985, using Vapo-Mist 500, 5% Vapona Insecticide (active ingredient was dichlorovinyl dimethyl phosphate (DDVP), and also contained petroleum distillates and 1,1,1-trichloethane). Chemical remnants may have remained present in objects, as well as museum cabinets and other furniture used to store collections.

Cultural Affiliation

Based on the information available and the results of consultation, cultural affiliation is clearly identified by the information available about the human remains described in this notice.

Determinations

SNOMNH has determined that:

• The human remains described in this notice represent the physical remains of two individuals of Native American ancestry.

• There is a connection between the human remains described in this notice and the Cheyenne and Arapaho Tribes, Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after October 16, 2025. If competing requests for repatriation are received, the SNOMNH must determine the most appropriate requestor prior to repatriation. Requests for joint repatriation of the human remains are considered a single request and not competing requests. SNOMNH is responsible for sending a copy of this notice to the Indian Tribes and Native Hawaiian organizations identified in this notice and any other consulting parties.

Authority: Native American Graves Protection and Repatriation Act, 25 U.S.C. 3003, and the implementing regulations, 43 CFR 10.10.

Dated: September 4, 2025.
Melanie O'Brien,
Manager, National NAGPRA Program.

[FR Doc. 2025-17882 Filed 9-15-25; 8:45 am]

BILLING CODE 4312-52-P